DEPARTMENT OF THE INTERIOR

Bureau of Indian Affairs

Notice of Intent To Prepare an Environmental Impact Statement for the Proposed Fee-to-Trust Conveyance of Property for the Cayuga Indian Nation of New York, Cayuga and Seneca Counties, New York

AGENCY: Bureau of Indian Affairs, Interior.

ACTION: Notice.

SUMMARY: This notice advises the public that the Bureau of Indian Affairs (BIA), as lead agency, with the cooperation of the Cayuga Indian Nation (Nation), intends to gather the information necessary for preparing an Environmental Impact Statement (EIS) for the conveyance into trust of 125± acres of land currently held in fee by the Nation. The purpose of the proposed action is to create a tribal land base and to help meet the Nation's socio-economic needs. This notice also announces a public scoping meeting to identify potential issues, alternatives and content for inclusion in the EIS.

DATES: Written comments on the scope of the EIS or implementation of the proposal must arrive by March 15, 2006.

The public scoping meeting will be held March 1, 2006, from 6:30 to 9:30 p.m., or until the last public comment is received.

ADDRESSES: You may mail, hand carry or telefax written comments to Franklin Keel, Regional Director, Eastern Regional Office, Bureau of Indian Affairs, 545 Marriott Drive, Suite 700, Nashville, Tennessee 37214, Telefax (615) 564-6701. Please include your name, return address and the caption, “DEIS Scoping Comments, Cayuga Indian Nation of New York Trust Acquisition Project,” on the first page of your written comments.

The public scoping meeting will be held at the New York Chiropractic College, 2360 State Route 89, Seneca Falls, NY 13148.

FOR FURTHER INFORMATION CONTACT: Kurt G. Chandler, (615) 564-6832.

SUPPLEMENTARY INFORMATION: The proposed action is BIA approval of the conveyance of 125± acres currently held in fee by the Nation into trust status for the benefit of the Nation. The property is in seven (7) separate parcels located in the Village of Union Springs and the Towns of Springport and Montezuma in Cayuga County, and in the Town of Seneca Falls in Seneca County, New York. The Nation wishes to use this property as a land base and for commercial purposes, including the operation of existing convenience store, gas station and Class II gaming facilities. No new development is currently planned for the subject properties.

Areas so far identified for analysis in the EIS include land and water resources, traffic, air quality, cultural and archaeological resources, socio-economic conditions and public services. Alternatives to be analyzed include the proposed action, no action and any other reasonable alternatives that may be identified through the scoping process. The range of issues to be addressed in the EIS may also be expanded, based on comments received in response to this notice and at the public scoping meeting.

Public Comment Availability

Comments, including names and addresses of respondents, will be available for public review at all of the mailing address shown in the ADDRESSES section (except those for the public meetings) during regular business hours, 8 a.m. to 4:30 p.m. (unless otherwise shown), Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.

Dated: February 3, 2006.
Michael D. Olsen,
Acting Principal Deputy Assistant Secretary—Indian Affairs.

[FR Doc. E6-1938 Filed 2-10-06; 8:45 am]

BILLING CODE 4310-W7-P